NUCLEAR REGULATORY COMMISSION

[NRC-2016-0192]

Service Level I, II, III, and In-Scope License Renewal Protective Coatings Applied to Nuclear Power Plants

AGENCY: Nuclear Regulatory Commission.

ACTION: Draft regulatory guide; request for comment.

SUMMARY: The U.S. Nuclear Regulatory Commission (NRC) is issuing for public comment draft regulatory guide (DG)-1331, “Service Level I, II, III, and In-Scope License Renewal Protective Coatings Applied to Nuclear Power Plants.” This DG is proposed Revision 3 of Regulatory Guide (RG) 1.54, “Service Level I, II, and III Protective Coatings Applied to Nuclear Power Plants.” The NRC proposes to revise the guide to update the latest American Society for Standards and Testing (ASTM) International standards approved for use in the prior revision of this guide. In addition, the NRC proposes to expand the scope of the regulatory guide to address aging management of internal coatings and linings on components within the scope of the NRC's license renewal regulations.

DATES: Submit comments by November 14, 2016. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking Web site: Go to http://www.regulations.gov and search for Docket ID NRC-2016-0192. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12H08, U.S. Nuclear Regulatory Commission, Washington, DC 20555-0001.

For additional direction on obtaining information and submitting comments, see “Obtaining Information and Submitting Comments” in the SUPPLEMENTARY INFORMATION section of this document.

FOR FURTHER INFORMATION CONTACT: Matthew G. Yoder, Office of Nuclear Reactor Regulation, telephone: 301-415-4017, email: Matthew.Yoder@nrc.gov; and Mark Orr, Office of Nuclear Regulatory Research, telephone: 301-415-6003, email: Mark.Orr@nrc.gov. Both are staff of the U.S. Nuclear Regulatory Commission, Washington, DC 20555-0001.

SUPPLEMENTARY INFORMATION:

I. Obtaining Information and Submitting Comments

A. Obtaining Information

Please refer to Docket ID NRC-2016-0192 when contacting the NRC about the availability of information regarding this action. You may obtain publicly-available information related to this action by any of the following methods:

• Federal Rulemaking Web site: Go to http://www.regulations.gov and search for Docket ID NRC-2016-0192.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DG is available in ADAMS under Accession No. ML16097A448. The regulatory analysis for this DG is available in ADAMS under Accession No. ML16070A091.

• NRC's PDR: You may examine and purchase copies of public documents at the NRC's PDR, Room O1-F21, One White Flint North, 11555 Rockville Pike, Rockville, Maryland 20852.

B. Submitting Comments

Please include Docket ID NRC-2016-0192 in your comment submission.

The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a DG in the NRC's “Regulatory Guide” series. This series was developed to describe and make available to the public information regarding methods that are acceptable to the NRC staff for implementing specific parts of the NRC's regulations, techniques that the staff uses in evaluating specific issues or postulated events, and data that the staff needs in its review of applications for permits and licenses.

The DG, entitled “Service Level I, II, III, and In-Scope License Renewal Protective Coatings Applied to Nuclear Power Plants,” is proposed Revision 3 of RG 1.54, “Service Level I, II, and III Protective Coatings Applied to Nuclear Power Plants.” The DG is temporarily identified by its task number,DG-1331. This revision (Revision 3) of RG 1.54 approves, with certain clarifications and exceptions, the use of ASTM International Standard D 5144-08ε¹, “Standard Guide for Use of Protective Coating Standards in Nuclear Power Plants,” ¹ and multiple sub-tier ASTM International standards as identified in the RG. In addition, the NRC proposes to expand the scope of the RG to address aging management of internal coatings and linings on components within the scope of license renewal under part 54 of title 10 of the Code of Federal Regulations (10 CFR).

¹ The “ε¹” symbol at the end of ASTM International Standard D 5144-08ε¹ is used by ASTM to identify an ASTM International standard that was revised to correct an editorial error. The copyright date of the edited standard is April 2016 which differs from the original 2008 publication date of the standard.

III. Backfitting and Issue Finality

Draft regulatory guide-1331 is proposed Revision 3 of RG 1.54. It proposes to approve, with certain clarifications and exceptions, the use of ASTM International Standard D 5144-08ε¹, “Standard Guide for Use of Protective Coating Standards in Nuclear Power Plants,” and multiple sub-tier ASTM International standards as identified in Figure 1 of DG-1331 and described below. The ASTM International Standard D 5144-08ε¹ was issued to provide a common basis on which protective coatings for the surfaces of nuclear power generating facilities may be qualified and selected through reproducible evaluation tests. This revision also expands the scope to include internal coatings and linings on components within the scope of license renewal. Copies of the ASTM International standards identified in DG-1331 are available for purchase from ASTM International, 100 Barr Harbor Drive, P.O. Box C700, West Conshohocken, Pennsylvania 19428-2959; telephone: 610-832-9585. Purchase information is also available through the ASTM Web site at http://www.astm.org.

In addition, the NRC made some clarifications and format changes that did not change the intent of the guidance.

If DG-1331 is finalized, it may be applied to current applications for operating licenses, combined licenses, early site permits, and certified design rules docketed by the NRC as of the date of issuance of the final RG, as well as future applications submitted after the issuance of the RG. Such action would not constitute backfitting as defined in 10 CFR 50.109(a)(1) or be otherwise inconsistent with the applicable issue finality provision in 10 CFR part 52. Neither the Backfit Rule nor the issue finality provisions under 10 CFR part 52, with certain exclusions discussed below, were intended to apply to every NRC action that substantially changes the expectations of current and future applicants.

The exceptions to this general principle are applicable whenever a combined license applicant references a 10 CFR part 52 license (e.g., an early site permit) or NRC regulatory approval (e.g., a design certification rule) with specified issue finality provisions. The NRC does not, at this time, intend to impose the positions represented in Revision 3 of RG 1.54 on combined license applicants in a manner that is inconsistent with any issue finality provisions. If, in the future, the NRC seeks to impose a position in Revision 3 of RG 1.54 in a manner that does not provide issue finality as described in the applicable issue finality provision, then the NRC must address the criteria for avoiding issue finality as described in the applicable issue finality provision.

Proposed Revision 3 of RG 1.54 updates the ASTM International standards the NRC staff has approved for use when qualifying and testing protective coatings and linings used in nuclear power plants.

Dated at Rockville, Maryland, this 7th day of September, 2016.
For the Nuclear Regulatory Commission.
Thomas H. Boyce,
Chief, Regulatory Guidance and Generic Issues Branch, Division of Engineering, Office of Nuclear Regulatory Research.

[FR Doc. 2016-21956 Filed 9-12-16; 8:45 am]

BILLING CODE 7590-01-P